DEPARTMENT OF JUSTICE

Notice of Lodging of Consent Decree Under the Comprehensive Environmental Response, Compensation, and Liability Act of 1980, as Amended (“CERCLA”)

Pursuant to 28 CFR 50.7, notice is hereby given that on December 14, 2006, a proposed consent decree in United States and California Department of Toxic Substances Control v. Union Pacific Railroad Co., Civil Action No. 2:06-CV-2841-FCD-KJM, was lodged with the United States District Court for the Eastern District of California.

This Consent Decree will resolve claims asserted by the United States and the California Department of Toxic Substances Control (“DTSC”) in a complaint filed contemporaneously with the proposed consent decree against defendant Union Pacific Railroad Company (“UPRR”) for past costs incurred by the U.S. Environmental Enforcement Agency (“EPA”) and DTSC at the McCormick and Baxter Superfund Site in Stockton, California (“the Site”), and for injunctive and declaratory relief, pursuant to Sections 106 and 107 of CERCLA, 42 U.S.C. 6906, 6907. The complaint alleges that UPRR is liable for response costs and site cleanup associated with the unlawful disposal of hazardous materials at the Site as a current owner of the Site, pursuant to CERCLA Section 107(a)(1), and as a person that arranged for the disposal of hazardous substances at the Site, pursuant to CERCLA 107(a)(3).

The proposed Consent Decree provides that UPRR will design and implement the remedy selected by EPA to address contaminated soils at the Site. In addition, UPRR will reimburse $1 million of EPA's past response costs and $900,000 of DTSC's past response costs at the Site.

The Department of Justice will receive for a period of thirty (30) days from the date of this publication comments relating to the consent decree. Comments should be addressed to the Assistant Attorney General, Environment and Natural Resources Division, P.O. Box 7611, U.S. Department of Justice, Washington, DC 20044-7611, and should refer to United States and California Department of Toxic Substances Control v. Union Pacific Railroad Co., D.J. Ref. #90-11-3-07886.

The consent decree may be examined at the Office of the United States Attorney for the Eastern District of California, 501 I Street, 10th Floor, Sacramento, CA, and at U.S. EPA Region 4, Office of Regional Counsel, 61 Forsyth Street, Atlanta, GA. During the public comment period, the consent decree may also be examined on the following Department of Justice Web site: http://www.usdoj.gov/enrd/Consent_Decrees.html. A copy of the consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $44.00 (25 cents per page reproduction cost) payable to the U.S. Treasury.

Henry Friedman,
Assistant Section Chief, Environmental Enforcement Section, Environment and Natural Resources Division.

[FR Doc. 06-9923 Filed 12-28-06; 8:45 am]

BILLING CODE 4410-15-M